DEPARTMENT OF THE INTERIOR

National Park Service

[2253-665]

Notice of Inventory Completion: Thomas Burke Memorial Washington State Museum, University of Washington, Seattle, WA

AGENCY: National Park Service, Interior.

ACTION: Notice.

SUMMARY: The Thomas Burke Memorial Washington State Museum (Burke Museum), has completed an inventory of human remains, in consultation with the appropriate Indian Tribes, and has determined that there is a cultural affiliation between the human remains and present-day Indian Tribes. Representatives of any Indian Tribe that believes itself to be culturally affiliated with the human remains may contact the Burke Museum. Repatriation of the human remains to the Indian Tribes stated below may occur if no additional claimants come forward.

DATES: Representatives of any Indian Tribe that believes it has a cultural affiliation with the human remains should contact the Burke Museum at the address below by October 19, 2011.

ADDRESSES: Peter Lape, Burke Museum, University of Washington, Box 353010, Seattle, WA 98195-3010, telephone (206) 685-3849.

SUPPLEMENTARY INFORMATION: Notice is here given in accordance with the Native American Graves Protection and Repatriation Act (NAGPRA), 25 U.S.C. 3003, of the completion of an inventory of human remains in the possession of the Burke Museum, University of Washington, Seattle, WA. The human remains were removed from the Congdon site (45-KL-41), in Klickitat County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho (hereinafter “The Tribes”). The Burke Museum also consulted with the Wanapum Band, a non-Federally recognized Indian group (hereinafter “The Indian Group”).

History and Description of the Remains

Between 1955 and 1957, human remains were removed from the Congdon site, in Klickitat County, WA, by a University of Washington field party led by Mr. Robert B. Butler. The human remains were transferred to the Burke Museum and formally accessioned in 1966 (Burke Accn.# 1966-100). In 1974, the Burke Museum legally transferred portions of the human remains to Central Washington University. In 2007, a Notice of Inventory Completion (NIC) describing 91 individuals and 1,049 associated funerary objects removed from the Congdon site was published in the Federal Register [72 FR 29177-29178, May 24, 2007]. The Burke Museum and Central Washington University have jointly repatriated all human remains and funerary objects from the Congdon site described in the NIC.

In September 2010, human remains representing at least two individuals were returned to the Burke Museum from the Washington State Physical Anthropologist. These human remains had been turned over to the New York State Police by a private citizen who stated they were among the possessions of her deceased husband. She believed they had been removed from a warehouse in south Seattle sometime before 2000. The human remains have been determined to be from the Congdon site. The remains of one individual were directly labeled with a Condgon site number and the second individual was determined to be from the Congdon site due to the color and appearance of the remains. The return of these remains increases the original minimum number of individuals from the site by two individuals. No known individuals were identified. No associated funerary objects are present.

Published ethnographic documentation indicates that the Congdon site is in the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936), whose descendents are represented today by the Confederated Tribes and Bands of the Yakama Nation, Washington; Confederated Tribes of the Umatilla Indian Reservation, Oregon; and the Confederated Tribes of the Warm Springs Reservation of Oregon. Furthermore, information provided during consultation indicates that the aboriginal ancestors occupying this area were highly mobile, and traveled widely across the landscape for gathering resources as well as trade. Descendents of these Plateau communities are now widely dispersed and enrolled in all of the above mentioned Tribal communities, as well as the Confederated Tribes of the Colville Reservation, Washington; Nez Perce Tribe, Idaho, and the Wanapum Band, a non-Federally recognized Indian group.

Determinations Made by the Burke Museum

Officials of the Burke Museum have determined that:

• Pursuant to 25 U.S.C. 3001(9), the human remains described in this notice represent the physical remains of two individuals of Native American ancestry.

• Pursuant to 25 U.S.C. 3001(2), there is a relationship of shared group identity that can be reasonably traced between the Native American human remains, The Tribes, and The Indian Group.

Additional Requestors and Disposition

Representatives of any Indian Tribe that believes itself to be culturally affiliated with the human remains should contact Peter Lape, Burke Museum, University of Washington, Box 35101, Seattle, WA 98195, telephone (206) 685-3849, before October 19, 2011. Repatriation of the human remains to The Tribes and The (joined) Indian Group may proceed after that date if no additional claimants come forward.

The Burke Museum is responsible for notifying The Tribes and The Indian Group that this notice has been published.

Dated: September 14, 2011.
Sherry Hutt,
Manager, National NAGPRA Program.

[FR Doc. 2011-23978 Filed 9-16-11; 8:45 am]

BILLING CODE 4312-50-P